DEPARTMENT OF HEALTH AND HUMAN SERVICES

Centers for Disease Control and Prevention

[30Day-08-0638]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Follow-up Survey of Chronic Fatigue Syndrome in Georgia—New—Coordinating Center for Infectious Diseases (CCID), Centers for Disease Control and Prevention (CDC).

Background and Brief Description

CDC is planning a follow-up study of chronic fatigue syndrome (CFS) in metropolitan, urban and rural communities in Georgia. This is in response to Congressional recommendations that the Centers for Disease Control and Prevention (CDC) utilize advanced surveillance methodologies for CFS to examine its natural history and identify risk factors and biomarkers.

In 2004, OMB approved the information collection, Survey of Chronic Fatigue Syndrome and Chronic Unwellness in Georgia, under OMB Number 0920-0638, which provided baseline information on prolonged fatiguing illness in metropolitan, urban, and rural regions in Georgia. Data from the proposed Follow-up Study of Chronic Fatigue Syndrome in Georgia will be used to describe the clinical course of CFS and evaluate behavioral and biochemical factors associated with outcome. This follow-up study will also determine access to and utilization of health care by persons with CFS and measure direct and indirect economic burden due to the illness. As part of a control strategy, the information from this follow up study will be used in national and pilot regional provider education programs.

The proposed study continues the Georgia survey using similar methodology and data collection instruments. This follow-up study begins with a detailed telephone interview to obtain additional data on participant health status during the last twelve month period. Eligible subjects will be asked to participate in clinical evaluations. There will be no cost to respondents other than their time. The estimated total annualized burden hours are 861.

Estimated Annualized Burden Hours
Respondents | Number of respondents | Number of responses per respondent | Average burden/ response (in hours)
Follow-up Study Detailed Interview | 2,870 | 1 | 18/60

Dated: November 15, 2007.
Marilyn Radke,
Reports Clearance Officer, Centers for Disease Control and Prevention.

[FR Doc. E7-22808 Filed 11-21-07; 8:45 am]

BILLING CODE 4163-18-P